DEPARTMENT OF DEFENSE

Department of the Army; Corps of Engineers

Intent To Prepare a Joint Environmental Impact Statement and Environmental Impact Report for the Sacramento and San Joaquin River Basins Comprehensive Study, Hamilton City Flood Damage Reduction and Ecosystem Restoration, Glenn County, CA

AGENCY: Department of the Army, U.S. Army Corps of Engineers, DoD.

ACTION: Notice of intent.

SUMMARY: A combined Feasibility Report and joint Environmental Impact Statement/Environmental Impact Report (EIS/EIR) will be prepared to satisfy the requirements of the National Environmental Policy Act and the California Environmental Quality Act. The U.S. Army Corps of Engineers (Corps), Sacramental District, will serve as the Federal lead agency for the EIS with The Reclamation Board of the State of California (the Board), the non-federal sponsor, serving as the State lead agency for the EIR. The combined Feasibility Report and joint EIS/EIR will evaluate the environmental effects of a potential flood damage reduction and ecosystem restoration project at Hamilton City. The Hamilton City Flood Damage Reduction and Ecosystem Restoration is the first site-specific evaluation to be initiated as a result of the Sacramento and San Joaquin River Basins Comprehensive Study conducted by the Corps and the Board. Concurrently with the release of this notice of intent (NOI), the Board is issuing a notice of preparation (NOP) to initiate the CEQA process.

Scoping and public involvement activities were conducted under the original NOI issued for the Comprehensive Study. A series of scoping and outreach meetings were held in February through May 1998, November through December 1998, February 1999, June 1999, October through November 2001, and August through September 2002. Development of the EIS/EIR for the Comprehensive Study was at a programmatic level with the preliminary site-specific evaluation for Hamilton City Flood Damage Reduction and Ecosystem Restoration packaged as an attachment to the main programmatic document. The Comprehensive Study has since discontinued the environmental documentation effort and therefore this NOI is being submitted to establish that the Feasibility Report and EIS/EIR for Hamilton City Flood Damage Reduction and Ecosystem Restoration will continue as a separate and complete document.

FOR FURTHER INFORMATION CONTACT: Questions about the combined Feasibility Report and joint EIS/EIR can be answered by Erin Taylor at (916) 557-6862 or by mail at U.S. Army Corps of Engineers, Planning Division, ATTN: Erin Taylor, 1325 J Street, Sacramento, CA 95814-2922, or e-mail: Erin.A.Taylor@usace.army.mil.

SUPPLEMENTARY INFORMATION:

1. Proposed Action

The combined Feasibility Report and joint EIS/EIR will evaluate ways to reduce the risk of flooding and restore the Sacramento River's connection with its flood plain, natural flood plain processes, and riparian and associated flood plain habitat.

2. Alternatives

Alternatives include the no-action, reinforcing the existing levee, several setback levee alignments at some distance from the river, and flood-proofing or relocating structures at risk of flooding, with different habitat configurations and methods of establishment. Maximum area of potential effect is estimated to be 2,600 acres currently held by a combination of private, State, and Federal agencies. Fee title and/or conservation and flood easements would likely be required to implement any project. The Corps will conduct site-specific hydrologic, hydraulic and geotechnical analyses, to determine the most suitable potential levee alignments and the feasibility of repairing the existing levee in place. The Feasibility Study will focus on the economic feasibility and will run a risk analysis of the alternatives. Ecosystem restoration would consist of either planting native habitat or allowing native habitats to establish naturally in the area between any new levee and the river. Selection of a preferred alternative will depend on the result of these studies and the desires of the local community.

3. Scoping Process

a. This notice re-initiates the scoping process whereby the Corps and the Board will identify the scope of issues to be addressed in the EIS/EIR and identify the significant environmental issues related to the flood damage reduction and ecosystem restoration at Hamilton City. The Corps and the Board have initiated a process of involving Federal, State, and local agencies, and concerned individuals under the Comprehensive Study.

b. Significant issues to be analyzed in depth include; agricultural resources, air quality, biological resources, cultural resources, geology and soils, hazardous, toxic, and radioactive materials, hydrology and water quality, and land use.

4. Public Meeting Scoping

Community meeting will be held during scoping, after the release of the draft EIS/EIR, and after release of the final EIS/EIR. A public scoping meeting will be held the week of January 6, 2003. The purpose of the meeting is to explain the NOI/NOP, and to solicit suggestions, recommendations, and comments to help refine the issues, measures, and alternatives to be addressed in the EIS/EIR. The public is asked to submit any issues (points of concern, dispute or disagreement) regarding potential effects of the proposed action or alternatives by mail to Corps (see FOR FURTHER INFORMATION CONTACT above for address).

5. Availability

The draft EIS/EIR is scheduled to be available for public review and comment in August 2003. The comment period on the draft EIS/EIR will be 45 days from the date the notice of availability is published in the Federal Register by the Environmental Protection Agency. All interested parties should respond to this notice and provide a current address if they wish to be notified of the draft EIS/EIR circulation and future scoping meeting dates.

Dated: November 26, 2002.
Michael J. Conrad, Jr.,
Col, EN, Commanding.

[FR Doc. 02-31456 Filed 12-12-02; 8:45 am]

BILLING CODE 3710-EZ-M